DEPARTMENT OF ENERGY

Environmental Management Site-Specific Advisory Board, Hanford; Notice of Open Meeting

AGENCY: Department of Energy.

ACTION: Notice of open meeting.

SUMMARY: This notice announces a meeting of the Environmental Management Site-Specific Advisory Board (EM SSAB), Hanford. The Federal Advisory Committee Act (Pub.L. No. 92-463, 86 Stat. 770) requires that public notice of these meeting be announced in the Federal Register.

DATES: Thursday, November 2, 2000, 9 a.m.-5 p.m., Friday, November 3, 2000, 8:30 a.m.-4 p.m.

ADDRESSES: Double Tree Inn, 2525 North 20th Avenue, Pasco, WA (509) 547-0701.

FOR FURTHER INFORMATION CONTACT: Gail McClure, Public Involvement Program Manager, Department of Energy Richland Operations Office, P.O. Box 550 (A7-75), Richland, WA, 99352; Phone: (509) 373-5647; Fax: (509) 376-1563.

SUPPLEMENTARY INFORMATION: Purpose of the Board: The purpose of the Board is to make recommendations to DOE and its regulators in the areas of environmental restoration, waste management, and related activities.

Tentative Agenda

Thursday, November 2, 2000

1. Tri-Party Agreement (TPA): Regulating for Success

a. Discussion of the TPA in the context of the following programs: Spent Fuel Tanks, Waste Management and Environmental Restoration

b. For each program, there will be a discussion related to: 1) FY 2000 TPA Accomplishments; 2) Identification of important milestones in the next five years; and 3) Identification of potential schedule impacts

c. Discussion of recent modifications to the Tanks Interim Stabilization Consent Decree

d. Proposed Changes to M-45; Single Shell Tank Waste Retrieval Actions; Associated Leak Detection; Monitoring and Mitigation; and Single-Shell Tank Farm Closure Activities

2. Informational Discussion on the DOE-Richland Vision: Done in a Decade

3. Introduction of Draft Advice from Dollars and Sense Committee on Contracting Criteria

4. Re-introduction of FY 2001 Performance Measures Advice (#111)

5. Initiate discussion of Hanford Advisory Board Chair Selection

Friday, November 3, 2000

1. Hanford Advisory Board Sounding Board on Department of Energy-Richland Vision

2. Possible adoption of Draft Advice from Dollars and Sense Committee on Contracting Criteria

3. Formal adoption of FY2001 Performance Measures Advice (#111)

4. Continued Discussion on the selection of Hanford Advisory Board Chair

5. Board Discussion on Headquarters Structure and Guidance of Site-Specific Advisory Board

Updates

Denver Stewardship Workshop

Washington State Department of Ecology Tank Waste Workshop

Fourth National Department of Energy Radioactive Waste Tank Closure Workshop

Public Participation: The meeting is open to the public. Written statements may be filed with the Board either before or after the meeting. Individuals who wish to make oral statements pertaining to agenda items should contact Gail McClure's office at the address or telephone number listed above. Requests must be received five days prior to the meeting and reasonable provision will be made to include the presentation in the agenda. The Deputy Designated Federal Officer is empowered to conduct the meeting in a fashion that will facilitate the orderly conduct of business. Each individual wishing to make public comment will be provided equal time to present their comments.

Minutes: The minutes of this meeting will be available for public review and copying at the Freedom of Information Public Reading Room, 1E-190, Forrestal Building, 1000 Independence Avenue, SW, Washington, DC 20585 between 9:00 a.m. and 4:00 p.m., Monday-Friday, except Federal holidays. Minutes will also be available by writing to Gail McClure, Department of Energy Richland Operations Office, P.O. Box 550, Richland, WA 99352, or by calling her at (509) 373-5647.

Issued at Washington, DC on October 11, 2000.
Rachel M. Samuel,
Deputy Advisory Committee Management Officer.

[FR Doc. 00-26456 Filed 10-13-00; 8:45 am]

BILLING CODE 6450-01-U